DEPARTMENT OF LABOR

Employment and Training Administration

Workforce Investment Act—Migrants and Seasonal Farmworker Programs Solicitation for Grant Applications—National Farmworker Jobs Program for Program Year 2005

AGENCY: Employment and Training Administration.

ACTION: New. Initial announcement of a Program Year (PY) 2005 grant competition for operating the National Farmworker Jobs Program (NFJP) under section 167 of the Workforce Investment Act of 1998 (WIA), 29 U.S.C. 9201.

Funding Opportunity Number: SGA/DFA PY 04-06.

Catalog of Federal Domestic Assistance (CFDA) Number: 17.264.

SUMMARY: The U.S. Department of Labor (the Department or DOL), Employment and Training Administration (ETA), Office of National Programs (ONP), Division of Seasonal Farmworker Programs (DSFP), announces a grant competition for operating the National Farmworker Jobs Program (NFJP), under section 167 of the Workforce Investment Act of 1998 (WIA), 29 U.S.C. 9201. All applicants for grant funds should read this notice in its entirety.

Section 167, paragraph (a) of WIA requires that the Secretary award grants or contracts on a competitive basis to eligible entities for the purposes of carrying out the activities authorized under section 167. Under this solicitation, DSFP anticipates that approximately $71,690,318, allotted among State service areas, will be available for grant awards for the NFJP.

Key Dates: The closing date for receipt of applications under this announcement is May 27, 2005. Applications must be received at the address below no later than 5 p.m., eastern standard time.

ADDRESSES: Applications must be directed to the U.S. Department of Labor, Employment and Training Administration, Division of Federal Assistance, Attention: James Stockton, Room N-4438, 200 Constitution Avenue, NW., Washington, DC 20210.

SUPPLEMENTARY INFORMATION:

I. Funding Opportunity Description

The U.S. Department of Labor, Employment and Training Administration, Division of Seasonal Farmworker Programs (DSFP) is requesting grant applications for operating the National Farmworker Jobs Program (NFJP) in accordance with section 167 of the Workforce Investment Act of 1998 (WIA), 29 U.S.C. 9201. The NFJP is designed to serve economically disadvantaged persons who primarily depend on employment in agricultural labor performed within the United States, including Puerto Rico, who experience chronic unemployment or underemployment. Qualifying participants are typically those persons employed on a seasonal or part-time basis in the unskilled and semi-skilled manual labor occupations in crop and animal production. Through training and other workforce development services, the program is intended to assist eligible migrants and seasonal farmworkers and their families to prepare for jobs likely to provide stable, year-round employment both within and outside agriculture.

In response to growing global competition, the U.S. economy is engaged in a structural change that causes skill requirements to constantly shift and calls on businesses to be agile in adapting to change. Changing skill requirements and the demand for an enhanced level of business flexibility calls for a competitive workforce, one that can quickly acquire skills in demand. Creating a competitive workforce also means taking full advantage of diversity in the workforce so that no worker willing to acquire needed skills is left behind. For agricultural employers and farmworkers, the transformation of the U.S. economy will require that these customers have access to the full spectrum of services available from local One-Stop Career Centers, not just services funded through the WIA Section 167 program (NFJP).

For the past three Fiscal/Program Years (FY/PY 2003, 2004, and FY 2005), ETA has pursued a strategy intended to increase farmworkers' access to workforce investment services by supporting the One-Stop Career Center system's continued movement towards universality and integrated service delivery.

As part of ETA's continued commitment to this integration strategy, in PY 2005 the agency will continue the emphasis begun in the PY 2003 grants competition for the NFJP that requires applicants responding to this SGA to design their programs around priorities intended to support the system's forward movement towards full integration of services, as follows:

Expanding the Network of Employers Using the System of Integrated Services—The number of employers that turn to the public workforce investment system at any given time to meet their skill needs is an important element in a strategy designed to increase the employment and training opportunities available to farmworkers. Therefore, this solicitation requires applicants to establish a goal to increase, per year, the number of employers with whom they do business, and to explain the strategy that will be implemented to meet the increase from the baseline established.

Targeting Occupations in High Growth Industries—This solicitation requires applicants to provide an analysis of the industries in the State, particularly high growth industries; the occupations in those industries for which farmworkers could be trained; the opportunities that exist for farmworkers to gain access to those occupations in the areas where they live and work; as well as develop a plan for outreach to those employers to ensure access for farmworkers to employment opportunities. A description of the economic conditions in the State, and how these conditions influence the availability of jobs in high growth industries, should be included.

A Balanced Program of Activities—Among the list of activities that can be provided through the WIA Section 167 (NFJP) program are services often referred to as related assistance. These services are primarily supportive services intended to assist farmworkers to enter training or retain their employment. While related assistance services are an important component in the menu of services provided to farmworkers, the central focus of the NFJP remains those employment and training services that lead to higher skilled and higher paid employment for farmworkers, either inside or outside agriculture. Applicants will be expected to describe how their intended mix of program services reflects the central importance of employment and training services that leverage economic outcomes for farmworkers.

Making Operational an Integration of Services for Farmworkers in the One-Stop Career Center System—Achieving better integration of employment and training services funded under the NFJP with the WIA adult and dislocated worker formula-funded job training and related services is a major ETA policy goal for the workforce investment system. This policy goal was established in PY 2003 and reflected in that year's SGA competition. It has continued to be pursued through a variety of strategies. Better integration of services within the One-Stop system can significantly increase the number of farmworkers who receive high quality workforce investment services that lead to improved employment and earnings. Applicants will be expected to describe the strategic planning and operational steps they will undertake to have a significant impact on services integration.

The NFJP is subject to the requirements found at WIA Section 167 and the Department's regulations at 20 CFR part 669. This program is also subject to the requirements of 29 CFR parts 93 (New Restrictions on Lobbying), 96 (Audit Requirements), and 98 (Debarment, Suspension, and Drug-Free Workplace Requirements), as well as the non-discrimination regulations implementing WIA Section 188 at 29 CFR part 37. Applicants should be familiar with these requirements and consult the WIA regulations at 20 CFR parts 660 through 671 in developing their grant proposals. Should the regulations at part 669 of WIA conflict with regulations elsewhere in 20 CFR, the regulations at part 669 will control.

In addition, this program is subject to the provisions of the “Jobs for Veterans Act,” Public Law 107-288, which provides priority of service to veterans and certain of their spouses in all Department of Labor-funded job training programs. Please note that, to obtain priority of service, a veteran must first meet the NFJP's eligibility requirements.

The NFJP is subject to the common performance measures for job training and employment programs established by the Office of Management and Budget (OMB). Guidance on the common performance measures can be found in ETA's Training and Employment Notice (TEN) No. 8-02 (March 27, 2003), available at http://ows.doeta.gov/dmstree/ten/ten2k2/ten_08-02.htm.

Applications submitted in response to this SGA are required to include estimates of expected performance against these common performance measures. The common performance measures are: Entered Employment, Employment Retention, and Earnings Increase. Applicants will be required to describe the reporting system they will establish to allow for data collection sufficient to report results against the common measures. The NFJP will begin data collection for these common measures in PY 2005 (July 1, 2005, through June 30, 2006).

II. Award Information

The type of assistance instrument to be used for the NFJP is the grant. Grants awarded through this solicitation will be for a two-year period, as prescribed in WIA Section 167. Please be advised that the Consolidated Appropriations Act, 2005 (Pub. L. 108-447) provided funding for the NFJP for PY 2005 only (July 1, 2005 through June 30, 2006). Therefore, second year funding will be dependent on the availability of funding through the FY 2006 appropriations process.

The amount available nationally for the NFJP State service area allotments is $71,690,318. State allotments are established through a formula process, and are published in a separate Federal Register notice. Please refer to our Web site (http://www.doleta.gov/MSFW/pdf/allocationtable.pdf) for a list of individual State allocations. The Consolidated Appropriations Act, 2005 House and Senate Reports provide that no State area shall receive less than 85 percent of its 1998 funding level; however, it also contained a mandatory rescission of .080 percent that applied to all programs. The total of $71,690,318 available for allocation for formula grants is a result of applying this rescission.

For purposes of this grant application, applications are solicited for a single NFJP operation per State, to serve the migrant and seasonal farmworkers of each State and Puerto Rico, with the following exceptions:

• Connecticut and Rhode Island are a combined State service area;

• Delaware and Maryland are a combined State service area;

• Applications for the combined State service areas mentioned above must address the two States as a single geographic area, but the proposed service delivery plan for the combined State area must show that consideration has been given to the entire population of migrant and seasonal farmworkers working or residing within the combined geographic area;

• Between 4 and 6 applications will be selected to operate the NFJP program in the agricultural counties in California; and

• No application will be accepted to provide services in Alaska due to the State's small relative share of seasonal agricultural employment.

Please be advised that in the event that no grant application is received for a State, or all applications received are considered not fundable by the Grant Officer after the panel review and scoring process, or a grant agreement is not successfully negotiated with a selected applicant, the Department will offer the Governor of that State a “right of first refusal” to submit an acceptable application, if that State has not applied (i.e., if no State agency in that State applied for a grant in this competition). If the Governor does not accept this offer within 15 days after being notified, the Department will designate another organization to operate the NFJP in that State. In cases where the State agency was an applicant, and all applications are found not fundable or are not successfully negotiated, the Department will designate another organization to operate the NFJP in that State.

Note: Selection of an organization as a grantee does not constitute approval of the grant application as submitted. Before the actual grant is awarded, the Department may enter into negotiations about such items as program components, staffing and funding levels, and administrative systems in place to support grant implementation. If the negotiations do not result in a mutually acceptable submission, the Grant Officer reserves the right to terminate the negotiation and decline to fund the application.

III. Eligibility Information

Eligible Applicants—Applicants need not be a current or prior WIA Section 167 grantee to establish eligibility to be awarded a grant under this solicitation. States, Local Workforce Investment Boards (LWIBs), faith-based and community organizations, institutions of higher learning, and other entities capable of delivering services on a statewide basis are all examples of organizations eligible to apply for WIA Section 167 grants.

WIA Section 167(b) describes entities eligible to receive a grant as those that have:

—An understanding of the problems of eligible migrant and seasonal farmworkers, including their dependents;

—A familiarity with the geographical area to be served; and

—A demonstrated capacity to effectively administer a diversified program of workforce investment activities for eligible migrant and seasonal farmworkers.

Additionally, to be responsive to the requirements of this solicitation, applicants must demonstrate how the strategies contained in their applications will support the priorities described in Section I of this solicitation, i.e., expanding the network of employers using the system of integrated services; targeting occupations in high growth industries; implementing a program of services that balances training and employment services with other program interventions; and making operational better integration of services for farmworkers.

Applicants must demonstrate how they will work with the State Workforce Investment Board (State Board) or Local Workforce Investment Boards (LWIB), or One-Stop operators in the service area(s) to assure an integrated service delivery approach to farmworkers through the local One-Stop system. This may include strategic planning and operational steps taken by the applicant and the State Board or LWIBs likely to have a significant impact on services integration.

If the applicant is a State, an LWIB or a One-Stop Career Center operator applying on behalf of the LWIB, the application must instead demonstrate how efforts have been/will be undertaken to integrate services provided by all One-Stop partners to enhance the workforce services provided to farmworkers, the expected outcomes, and the “next steps” to be undertaken to continue to improve on any past integration efforts.

Cost Sharing or Matching—The WIA section 167 program does not require grantees to share costs or provide matching funds.

Other Eligibility Criteria—In accordance with 29 CFR part 98, entities that are debarred or suspended shall be excluded from Federal financial assistance and are ineligible to receive a WIA Section 167 grant.

Prior to awarding a grant, the Department will conduct a responsibility review of each potential grantee through available records. The responsibility review relies on examining available records to determine if an applicant has a satisfactory history of accounting for Federal funds and property. The responsibility review is independent of the competitive process. Applicants failing to meet the standards of the responsibility review may be disqualified for selection as grantees, irrespective of their standing in the competition. Any applicant that is not selected as a result of the responsibility review will be advised of their appeal rights. The responsibility tests that will be applied are those present in the WIA regulations (20 CFR 667.170).

Legal rules pertaining to inherently religious activities by organizations that receive Federal financial assistance—The government is generally prohibited from providing direct financial assistance for inherently religious activities. Please note that, in this context, the term direct financial assistance means financial assistance that is provided directly by a government entity or an intermediate organization, as opposed to financial assistance that an organization receives as the result of the genuine and independent private choice of a beneficiary. These grants may not be used for religious instruction, worship, prayer, proselytizing, or other inherently religious activities. Neutral, non-religious criteria that neither favor nor disfavor religion must be employed in the selection of grant recipients and sub-recipients.

IV. Application and Submission Information

Address To Request Application Package

This Solicitation for Grant Applications (SGA) includes all information and forms needed to apply for this funding opportunity. If additional copies of forms are needed, they can be found at http://www.doleta.gov/msfw, or at the Federal Register Web site, http://www.gpoaccess.gov.

Content and Form of Application Submission

An application must include two (2) separate and distinct parts: Part I—a cost proposal and Part II—a technical proposal. Applications that fail to adhere to the instructions in this section will be considered non-responsive and will not be considered. Part I of the proposal is the Cost Proposal and must include the following items:

• A cover letter, an original plus two (2) copies of the proposal, and an ink-signed original SF-424, “Application for Federal Assistance” (Appendix A) must be submitted. Beginning October 12, 2003, all applicants for Federal grant and funding opportunities are required to have a Dun and Bradstreet (DUNS) number (see OMB Notice of Final Policy Issuance, 68 FR 38402; June 27, 2003). Applicants must supply their DUNS number in item #5 of the new SF-424 issued by OMB (Rev. 9-2003). The DUNS number is a nine-digit identification number that uniquely identifies business entities. Obtaining a DUNS number is easy and there is no charge. To obtain a DUNS number, access this Web site: http://www.dunandbradstreet.com. You can also call 1-866-705-5711.

• The Standard Form (SF) 424-A (Appendix B). In preparing the budget form, the applicant must provide a concise narrative explanation to support the request. The budget narrative should break down the budget and should discuss precisely how administrative costs support the project goals.

• Part II of the application is the Technical Proposal, which demonstrates the applicant's capabilities to plan and implement the grant project in accordance with the provisions of this solicitation. The Technical Proposal should be limited to 40 numbered pages, double-spaced, single-sided, in 12-point text font and one-inch margins. Letters of support and any required attachments will not be subject to the page limitations; letters of support will not be included in the materials provided to the panel for review of the proposal. If any attachments are included, please label accordingly and specify the content of the attachment.

• No cost data or reference to prices should be included in the Technical Proposal. Instead, applicants should provide a two-page abstract summarizing the proposed project and applicant profile information, including the applicant's name, the project title, and the funding level requested. The two-page abstract is not included in the 40 page limit.

Applications that do not meet these requirements will not be considered.

Submission Dates and Times

The closing date for receipt of applications under this announcement is May 27, 2005. Applications must be received at the address below no later than 5 p.m. Eastern time. Applications sent by e-mail, telegram, or facsimile (fax) will not be accepted. Applications that do not meet the conditions set forth in this notice will not be honored. No exceptions to the mailing and delivery requirements set forth in this notice will be granted.

Mailed applications must be addressed to the U.S. Department of Labor, Employment and Training Administration, Division of Federal Assistance, Attention: James Stockton, Reference SGA/DFA PY 04-06, 200 Constitution Avenue, NW., Room N-4430, Washington, DC 20210. Applicants are advised that mail delivery in the Washington, DC area may be delayed due to mail decontamination procedures. Hand-delivered proposals will be received at the above address.

Applicants may apply online at http://www.grants.gov. For applicants submitting electronic applications via Grants.gov, it is strongly recommended that you immediately initiate and complete the “Get Started” steps to register with Grants.gov at http://www.grants.gov/GetStarted. Registration will probably take multiple days to complete which should be factored into plans for electronic application submission in order to avoid facing unexpected delays that could result in the rejection of your application. It is recommended that applicants experiencing problems with electronic submission submit their application by overnight mail until the electronic issues are resolved.

Late Applications

Any application received after the exact date and time specified for receipt at the office designated in this notice will not be considered, unless it is received before awards are made and it (a) was sent by the U.S. Postal Service registered or certified mail not later than the fifth calendar day before the date specified for receipt of applications (e.g., an application required to be received by the 20th of the month must be postmarked by the 15th of that month); or (b) was sent by the U.S. Postal service Express Mail or Online to addressee not later than 5 p.m. at the place of mailing or electronic submission one (1) day prior to the date specified for receipt of applications. It is highly recommended that online submissions be completed one working day prior to the date specified for receipt of applications to ensure that the applicant still has the option to submit by U.S. Postal Service Express Mail in the event of any electronic submission problems. “Post marked” means a printed, stamped, or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be basis for a determination of nonresponsiveness.

Intergovernmental Review

Executive Order No. 12372, “Intergovernmental Review of Federal Programs,” and the implementing regulations at 29 CFR part 17 are applicable to this program. Under these requirements, an applicant must provide a copy of the funding proposal for comment to the States that have established a consultation process under the Executive Order. Applications must be submitted to the State's Single Point of Contact (SPOC), no later than the deadline for submission of the application to the Department. For States that have not established a consultative process under E.O. 12372, but have a State Workforce Investment Board (State Board), the State Board will be the SPOC. For WIA implementation purposes, this consultative process fulfills the requirement of WIA Section 167(e) concerning consultation with Governors and Local Workforce Investment Boards (LWIB). To strengthen the implementation of E.O. 12372, the Department establishes the following timeframe for the treatment of comments from the State's SPOC on WIA Section 167 applications: (1) The SPOC must submit comments, if any, to the Department and to the applicant, no later than 30 days after the deadline date for the submission of applications; (2) the applicant's response to the SPOC comments, if any, must be submitted to the Department no later than 15 days after the postmarked date of the comments from the SPOC; (3) the Department will notify the SPOC (with copy to the applicant) of its decision regarding the SPOC comments and applicant response; and (4) the Department will implement that decision within 10 days after it has notified the SPOC.

The names and addresses of the SPOCs are listed in the Office of Management and Budget's (OMB) home page at http://www.whitehouse.gov/omb/grants/spoc.html.

Funding and Other Restrictions

Grantees are limited to applying no more than 15 percent of the grant for administrative costs (see definition of administrative costs at 20 CFR part 667.220). Administrative costs higher than 15 percent of the grant will not be approved.

Other Submission Requirements

All other material required to be submitted is identified in the various sections of this solicitation.

V. Application Review Information Criteria

The following review criteria, totaling a maximum of 100 points, apply to all applications:

Understanding the Problems of the Eligible Migrants and Seasonal Farmworkers in the State Service Area—20 Points

Applicants must describe the economy (agricultural and non-agricultural) in the geographic area they propose to serve, the employment outlook for the area, including the number of employers with whom they currently work, new employers with whom they expect to work and the strategies to be used to attract new employers, a plan for the continued expansion of the employer network expected to be the major source of job opportunities for migrants and seasonal farmworkers to enter into employment, and how economic conditions and employer hiring needs affect the employment prospects of eligible migrant and seasonal farmworkers.

This section must also include a detailed description of the labor market, both agricultural and non-agricultural, the economic conditions expected during the course of the program year, and the hiring implications those economic conditions pose for the employers in the area. In addition, this section must include a discussion of projected high growth occupations in the service area that hold the potential for improved employment and earnings for farmworkers, and the strategies to be used in securing those opportunities for farmworkers.

Applicants must also describe the socio-economic characteristics and problems of eligible farmworkers, and their dependents, in the proposed service area, and describe what implications economic conditions, the labor market outlook, and the analysis of potential high growth occupations hold for the workforce strategies proposed through this solicitation, given the socio-economic characteristics of the eligible population to be served.

Scoring on this factor will be based on how well the applicant demonstrates its understanding of the local economy and how local economic conditions help to define the challenges to be met, and the problems to overcome, in improving farmworkers' employment and earnings. Scoring will also be based on how well the proposal demonstrates the nexus between economic conditions, the characteristics of the eligible farmworkers, and the workforce investment strategies proposed.

The review and evaluation of this factor will look closely for evidence of an effective network of employers that provide improved job placement opportunities, both within and outside agriculture, and the strategies to be used to continue to expand this employer network in the service area. The proposal should clearly describe the goal established to increase the number of employers with whom they do business, the baseline number to be used in measuring the increase, and how this expanded employer network will result in improved employment opportunities for farmworkers in higher-skilled, higher-paid occupations.

Familiarity With the Proposed Service Area—20 Points

To achieve the goal of integrating services for farmworkers through the One-Stop system, the applicant must have a clear understanding of the One-Stop system in the area and the network of social, educational, and health services available to help meet the diverse needs of the eligible farmworkers in the service area.

This section must include a description of the faith-based and community organizations in the service area and the applicant's experience in engaging these organizations in its service delivery strategy for migrant and seasonal farmworkers. It should also include a description of the services available through local service organizations, including faith-based and community organizations, and the applicant's strategy to mobilize those service organizations to provide comprehensive services to farmworkers while optimizing the use of limited NFJP resources, particularly supportive or related assistance services.

The applicant must describe its prior experience, if any, and demonstrated effectiveness in working with the One-Stop system to provide services to farmworkers. Include a description of the efforts to date to integrate services to farmworkers across all partners in the One-Stop system, and the steps to be taken to further make operational the integration of services.

These steps may include:

• Participation in local/State activities to develop the WIA formula funded five-year plan;

• Participation in activities that connect workforce investment and education with economic development planning;

• Participation in activities that help the State Board or LWIB to get more agricultural employers involved in the workforce investment system;

• Setting co-enrollment targets (between the NFJP and the WIA formula funded programs) that represent a substantial increase in services to farmworkers;

• Creating better pathways to both basic and post-secondary education, specifically with community colleges;

• Entering into and implementing agreements with the State Board or the LWIBs and One-Stop operators to significantly increase outreach to farmworkers, and to significantly increase the number of One-Stop staff who are cross-trained in NFJP/adult and dislocated workers services and requirements.

Applicants must describe their experience with developing or improving existing working relationships between partners in the One-Stop system, and how that experience will be translated into improved services integration for eligible farmworkers.

If the applicant is a State, an LWIB, or a One-Stop operator, this section should instead include a detailed description of the efforts to date to integrate services for farmworkers through the One-Stop system, the success of those efforts, and the operational steps to be undertaken to continue down the path of integration.

Scoring on this factor will be based on evidence presented of the applicant's knowledge of and working relationship with the network of workforce investment and related services in the service area, including the One-Stop system, and the services offered by social, educational, faith-based, community, and health organizations that are available to assist farmworkers.

Scoring will also be based on the applicant's effectiveness and success with causing these organizations to direct their resources to address the needs of farmworkers in a way that leads to maximizing the availability of limited NFJP resources while increasing the services provided to farmworkers through the One-Stop and/or through these service agencies.

If the applicant is a State, an LWIB or a One-Stop operator, scoring will be based instead on the success of efforts to integrate services to farmworkers through the One-Stop system and its partners, or the demonstrated potential for increased services to farmworkers. Any success to date in enrolling and serving farmworkers in WIA formula-funded programs should be outlined.

Administrative Capacity—20 Points

Applicants must demonstrate that they have adequate management information, performance management, case management, accounting, and program and fiscal reporting systems in place to ensure program and fiscal integrity. Because the NFJP has eligibility requirements for participation in the program, the applicant must also describe the eligibility determination and verification system in place that will allow for correct eligibility determinations and minimize enrollment of ineligible participants. Additionally, all ETA-funded job training programs, including the NFJP, will have to implement a data validation initiative intended to ensure that the data collected and reported to ETA is accurate. An applicant's participant and reporting system must be able to implement data validation procedures, as described in TEGL 3-03, 3-03 change 1, and 3-03 change 2 (OMB clearance issued August 31, 2004).

Applicants must describe their systems in support of program integrity, such as management information, performance management, and program participation (including individual participant records), needed for reporting and performance accountability and management, and to establish and maintain a client-centered case management system. Applicants are reminded that the NFJP is subject to the common measures for job training and employment (Entered Employment, Employment Retention, and Earnings Gain Increase, described earlier in this solicitation), and will have to implement the data collection and reporting requirements for these measures during PY 2005. Therefore, the data collection and reporting system, and its link to performance management and accountability, must be described in detail.

Fiscal integrity is a critical component of operating any federally-funded program. The applicant must describe a system that is sufficient to prepare financial reports and to trace funds to adequate levels of expenditures to ensure lawful spending. The system must have the capacity to track spending by program, to ensure that, for those organizations with funding from more than one Federal program, expenditures are posted against the appropriate program. Applicants must also describe their capacity to manage the supportive services, also described as related assistance services, and to account for expenditures related to these services.

The NFJP is required to use electronic reporting via the Internet. Applicants must describe their capacity to provide the equipment, access, and staff qualified to perform on-line reporting. The applicant must also demonstrate its capacity to provide case management as well as the electronic tools to be utilized (PC, software, Internet access, and e-mail accounts) to implement a client-centered, case management system.

Scoring on this factor will be based on evidence of effective systems for performance accountability and management, program and fiscal reporting, case management, eligibility determination and verification, as well as the ability to report electronically through the Internet.

Proposed Plan of Services—40 Points

The proposed service plan should describe in detail the major program activities proposed for the State service area in PY 2005. The proposal should include a description of how these program activities will support the priorities identified in section I of this solicitation: expanding the network of employers; targeting high growth occupations; a balanced program of activities; and taking the steps to make operational the integration of services to farmworkers through the One-Stop system.

The proposal should describe the vision, strategy, goals and objectives that guide the proposed plan of service and the results expected from implementing the proposed plan. It should include a description of how this service plan will strengthen migrant and seasonal farmworkers' ability to obtain or retain employment, to access employment opportunities in high growth occupations, and/or to upgrade their employment opportunities within agriculture, if they so choose. The plan should provide clear evidence that the service plan expands the workforce and related services available to farmworkers due to a closer integration between the NFJP service strategy and the local workforce investment service plan, and new or stronger partnerships with faith-based and community organizations.

Applicants should describe their strategy for providing related assistance services to farmworkers (see definition at 20 CFR 669.110). The numbers of participants receiving related assistance services should be limited to 40 percent or less of the total number of participants. If an organization expects that the number of participants they will serve through related assistance services will exceed 40 percent, the proposal should include a strong rationale explaining why that level of participation in related assistance is an essential element of the service strategy. It should be noted that the NFJP is primarily a job training program whose purpose is to assist eligible migrant and seasonal farmworkers and their families prepare for jobs that provide stable, year-round employment, both within and outside agriculture. Related assistance services are supportive services intended to assist eligible migrant and seasonal farmworkers to retain employment or enter into or remain in training.

If the applicant is a State, an LWIB or a One-Stop operator, the application must demonstrate how the service strategy achieves integration of services by all partners in the One-Stop system, and how this integration results in enhanced and improved workforce investment services to farmworkers.

The program plan of service section must include descriptions of:

—The State service area covered by the plan. If the proposal is for less than the entire agricultural area of the State (as could be the case in California, for example) the plan must identify the geographic area where services will be provided and an explanation supporting the geographic area selected.

—An estimate of the number of migrant and seasonal farmworker, broken out by category, to be provided training services. An estimate should also be included of the number of migrant and seasonal farmworkers, broken out by category, who will be provided related assistance services only.

—The strategies for conducting participant outreach and recruitment, including the involvement, if appropriate, of faith-based and community organizations in those strategies, as well as other One-Stop partner programs.

—The proposed client-centered case management system, including the staff's responsibilities for managing the system, the staff development opportunities available to enhance staff's skills in case management, and the capacity to enhance community resources available for case management through joint alliances and/or endeavors, such as through the One-Stop system.

—The core services to be delivered, and how those services will be delivered in collaboration with the One-Stop system. Include a description of the eligibility determination system and how the applicant determines service priorities.

—The intensive services proposed, the strategy for providing them, and the One-Stop system's involvement in the provision of these services (see definition of intensive services at WIA Section 134(d)(3) and 20 CFR 669.370). Please note that the NFJP regulations at 20 CFR 669.380 provide that the delivery of intensive and training services should flow from an objective assessment process that includes an Individual Employment Plan. The proposal must describe the strategy for doing this, as well as the organization's capacity to appropriately address an individual's needs as identified through the objective assessment. Intensive services are described in WIA 134(d)(3)(C) and 20 CFR 669.370.

—If work experience is to be offered as an activity, the process by which the determination to use it is based, and the strategy for measuring its success as a program activity. (See 20 CFR 669.370(b)(i) and (b)(ii)(B) for additional information on work experience activities.)

—The training services to be provided to eligible farmworkers, including the process used to determine a participant's enrollment in training services, and the process used when the determination is made not to place a participant in training. (See 20 CFR 669.410 for a description of training services.) In addition, the proposal should describe the strategy to be used to promote co-enrollment of participants in the WIA formula funded programs.

—The related assistance services, including supportive services, needed by migrant and seasonal farmworkers and their dependents, and the strategy for providing those services. The proposal should provide separate descriptions for those farmworkers receiving supportive services and also intensive and/or training services, and those farmworkers for whom related assistance services will be the only services provided. It should also include a description of the process used to determine the need for related assistance services, the differences in the determination process, if any, among migrant and seasonal farmworker groups, and the rationale for the differences.

—The proposal should describe the applicant's strategy for balancing related assistance services with the need to increase employment and training services.

—A description of the strategies to be used to achieve performance results with respect to job placement, employment retention, and earnings gains i.e., the common measures to be implemented in PY 2005).

—The proposal should address how job placement opportunities will be pursued among the employers in the service area, including the strategies to secure job placement opportunities from new employers added to the network, as well as opportunities in high growth industries/occupations.

—The process by which the applicant will conduct follow-up services for those who are placed in jobs or engaged in entrepreneurial activities.

Scoring on this factor will be based on evidence that the applicant has used the information provided in the first three rating criteria, described above, to develop a service strategy and a plan of service that leads to measurable impact on improving the employment and earnings of farmworkers. It will also be based on evidence that the plan of service contains a balanced program of activities, and a rationale for the proposed services, as well as evidence that the service plan encompasses resources and program activities available from other One-Stop partners and/or the local services agencies, including faith-based and community organizations.

The evaluation of this factor will also assess whether the service strategy and service plan presented by the applicant reflect a knowledge of the local workforce investment plan and propose services that complement that plan in a way that increases employment opportunities for farmworkers.

If the applicant is a State, an LWIB or a One-Stop operator, the evaluation of this factor will assess opportunities for integrating services through the One-Stop system and its partner programs to improve the workforce and related services received by farmworkers. Special emphasis will be placed on the success achieved in enrolling and serving farmworkers through WIA formula-funded programs.

Review and Selection Process

A review panel will rate each proposal according to the criteria scoring factors specified in this solicitation. Panel reviews are critical to the selection of grantees but are advisory in nature, and their recommendations are not binding on the Grant Officer. The Grant Officer, in selecting potential grantees, may consider any information that comes to his or her attention, including past performance of a previous grant and information from the program office, and will make the final selection determination based on what is most advantageous to the government. The Grant Officer may consider factors such as panel findings, geographic presence of the applicants, proposed areas to be served, and the best value to the government, cost, and other factors. The Grant Officer's determination for award under this SGA is final.

The Grant Officer may elect to make awards either with or without discussions and negotiations with the applicant. In situations without discussions, an award will be based on the applicant's signature on the SF-424, which constitutes a binding offer.

Applications rated by the panel with a score of less than 80 points will not be selected for award. In areas where there are no applications with a score of 80 or above, the process for selecting another potential grantee, described in section II, will be implemented.

IV. Award Administration Information

Award Notices

The Grant Officer will notify applicants, in writing, if they are selected as potential grantees. The notification will invite each potential grantee to negotiate the final terms and conditions of the grant as applicable, will establish a reasonable time and place for the negotiations, and will indicate the specific service delivery area and amount of funds to be allocated under the grant. FY 2005 funds will be awarded for the period July 1, 2005 to June 30, 2005. Funds awarded under WIA Section 167 are available for expenditure for two years.

An applicant that is not selected as a potential grantee or whose application has been denied in part or in whole by the Department will be notified in writing by the Grant Officer and advised of all appeal rights. The notification will outline the deficiencies as noted by the review panel and offer an opportunity for a debriefing. The written notification by the Grant Officer constitutes a final decision.

Administrative and National Policy Requirements

There are no additional administrative or national policy requirements.

Reporting

An applicant's proposal becomes the annual grant plan after a grant award is made, with additional information as appropriate and requested by the funding agency. WIA Section 167 grantees will be required to submit reports on financial expenditures, program participation, and participant outcomes on a quarterly basis. Grantees will also have to submit planned financial expenditures and planned program participation forms at the beginning of the program year. Grantees must report electronically, but may be asked to submit reports in paper form on occasion. As reflected earlier in this solicitation, this program is subject to the Common Measures for job training and employment programs, to be implemented beginning July 1, 2005. Grantees will be required to provide the data necessary to collect information for reporting performance results against the Common Measures. Information will be available in the future at http://www.doleta.gov/performance.

V. Agency Contacts

Questions related to this solicitation may be directed to Ms. Mamie Williams, Grants Management Specialist, phone (202) 693-3341; fax: (202) 693-2879 (this is not a toll free number). Please include a contact name, fax and telephone number.

This announcement is also being made available on the ETA Web site at http://doleta.gov/sga/sga.cfm and http://www.grants.gov.

Signed at Washington, DC, this 21st day of April, 2005.
James W. Stockton,
Grant Officer.

Attachments:

Appendix A: SF-424—Application for Federal Assistance.

Appendix B: SF-424 (A)—Budget Information Form.

Appendix C: OMB Survey N. 1890-0014: Survey on Ensuring Opportunity for Applications.

BILLING CODE 4510-30-P

[FR Doc. 05-8366 Filed 4-25-05; 8:45 am]

BILLING CODE 4510-30-C